DEPARTMENT OF DEFENSE

Office of the Secretary

Reserve Forces Policy Board (RFPB); Notice of Federal Advisory Committee Meeting

AGENCY: Department of Defense; Office of the Secretary of Defense, Reserve Forces Policy Board.

ACTION: Notice of Advisory Committee Meeting.

SUMMARY: Under the provisions of the Federal Advisory Committee Act of 1972 (FACA) (5 U.S.C., Appendix, as amended), the Government in the Sunshine Act of 1976 (5 U.S.C. 552b, as amended), and 41 CFR 102-3.150, the Department of Defense announces the following Federal advisory committee meeting of the Reserve Forces Policy Board (RFPB) will take place.

DATES: Wednesday, March 6, 2013, from 8:20 a.m. to 3:50 p.m.

ADDRESSES: The address is the Pentagon, Room 3E863, Arlington, VA.

FOR FURTHER INFORMATION CONTACT: CAPT Steven Knight, Designated Federal Officer, (703) 681-0608 (Voice), (703) 681-0002 (Facsimile), RFPB@osd.mil. Mailing address is Reserve Forces Policy Board, 5113 Leesburg Pike, Suite 601, Falls Church, VA 22041. Web site: http://ra.defense.gov/rfpb/.

SUPPLEMENTARY INFORMATION: Purpose of the Meeting: The purpose of the meeting is to obtain, review and evaluate information related to strategies, policies, and practices designed to improve and enhance the capabilities, efficiency, and effectiveness of the reserve components.

Agenda: The Reserve Forces Policy Board will hold a meeting from 8:20 a.m. until 3:50 p.m. The portion of the meeting from 8:20 a.m. until 10:20 a.m. will be closed and is not open to the public. The open portion of the meeting will consist of administrative details, remarks from the Reserve Component Senior Enlisted Advisors, a RFPB Cost Methodology Project update, and briefs from the RFPB subcommittees and the Secretary of Defense Strategic Question Task Group. The Senior Enlisted Advisors will offer their thoughts on the following question, “If you had an opportunity to advise the Secretary of Defense on a DoD-level policy or procedure, what policy or practice would that be and how would you recommend modifying, improving or changing it?” A status report will be given on the RFPB Cost Methodology Project Report that has been forwarded to the Secretary of Defense. The Secretary of Defense's Strategic Question Task Group will discuss its findings, present relevant facts, and provide for the Board's consideration a report or reports of advice and recommendations for the Secretary of Defense. The closed session of the meeting will consist of remarks from the Commander of U.S. Southern Command, the Commander of U.S. Cyber Command, and the Chief of Staff of the Air Force (CSAF). The Commander, USSOUTHCOM and CSAF have been invited to speak on the best ways to use the Reserves to support the Department's new strategy; the right balance of Active and Reserve Component Forces; and the cost to maintain a strong Reserve Component. Commander, USCYBERCOM, has been invited to discuss his views on the increased emphasis placed on cyber security and the logical mission fit for Reserve Component members.

Meeting Accessibility: Pursuant to 5 U.S.C. 552b, as amended, and 41 CFR 102-3.140 through 102-3.165, and the availability of space, the open portion of the meeting is open to the public. To request a seat for the open portion of the meeting, interested persons must email or call the Designated Federal Officer not later than February 27, 2013 as listed in FOR FURTHER INFORMATION CONTACT. In accordance with section 10(d) of the FACA, 5 U.S.C. 552b, and 41 CFR 102-3.155, the Department of Defense has determined that the portion of this meeting from 8:20 a.m. until 10:20 a.m. will be closed to the public. Specifically, the Acting Under Secretary of Defense (Personnel and Readiness), with the coordination of the DoD FACA Attorney, has determined in writing that this portion of the meeting will be closed to the public because it will discuss matters covered by 5 U.S.C. 552b(c)(1).

Written Statements: Pursuant to 41 CFR 102-3.105(j) and 102-3.140 and section 10(a)(3) of the FACA, interested persons may submit written statements to the Reserve Forces Policy Board at any time. Written statements should be submitted to the Reserve Forces Policy Board's Designated Federal Officer at the address or facsimile number listed in FOR FURTHER INFORMATION CONTACT. If statements pertain to a specific topic being discussed at a planned meeting, then these statements must be submitted no later than five (5) business days prior to the meeting in question. Written statements received after this date may not be provided to or considered by the Reserve Forces Policy Board until its next meeting. The Designated Federal Officer will review all timely submitted written statements and provide copies to all the committee members before the meeting that is the subject of this notice.

Dated: February 13, 2013.
Aaron Siegel,
Alternate OSD Federal Register Liaison Officer, Department of Defense.

[FR Doc. 2013-03729 Filed 2-15-13; 8:45 am]

BILLING CODE 5001-06-P